DEPARTMENT OF LABOR

Employment and Training Administration

[TA-W-80,532B]

Advanced Energy Industries, Inc., Including On-Site Leased Workers From Mid Oregon Personnel and All Star Labor, Including Workers Whose Unemployment Insurance (UI) Wages Are Reported Through PV Powered, Currently Known as AE Solar Energy, Inc., Bend, Oregon; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 30, 2011, applicable to workers of Advanced Energy Industries, Inc., including on-site leased workers of Mid Oregon Personnel, Bend, Oregon (AEI). AEI is engaged in activities related to the production of solar invert subcomponents. The Department's Notice was published in the Federal Register on December 13, 2011 (76 FR 77556).

On January 19, 2012, the Department amended the certification to include workers who had their wages reported through a separate unemployment insurance (UI) tax account under the name PV Powered, currently known as AE Solar Energy, Inc.

At the request of the State agency, the Department reviewed the certification for workers of AEI. New information shows that workers leased from All Star Labor were employed on-site at the Bend, Oregon location of the subject firm. The Department has determined that these workers were sufficiently under the control of the subject firm to be considered leased workers.

Based on these findings, the Department is amending this certification to include workers leased from All Star Labor working on-site at the Bend, Oregon location of AEI. The amended notice applicable to TA-W-80,532B is hereby issued as follows:

“All workers of Advanced Energy Industries, Inc., including on-site leased workers of Mid Oregon Personnel and All Star Labor, including workers whose unemployment insurance (UI) wages are reported through PV Powered, currently known as AE Solar Energy, Inc., Bend Oregon, who became totally or partially separated from employment on or after October 18, 2010, through November 30, 2013, are eligible to apply for adjustment assistance under Section 223 of the Trade Act of 1974, and are also eligible to apply for alternative trade adjustment assistance under Section 246 of the Trade Act of 1974.”

Signed at Washington, DC this 21st day of June, 2013.
Del Min Amy Chen,
Certifying Officer, Office of Trade Adjustment Assistance.

[FR Doc. 2013-16158 Filed 7-3-13; 8:45 am]

BILLING CODE 4510-FN-P